FEDERAL RESERVE SYSTEM

Formations of, Acquisitions by, and Mergers of Bank Holding Companies

The companies listed in this notice have applied to the Board for approval, pursuant to the Bank Holding Company Act of 1956 (12 U.S.C. 1841 et seq.) (BHC Act), Regulation Y (12 CFR Part 225), and all other applicable statutes and regulations to become a bank holding company and/or to acquire the assets or the ownership of, control of, or the power to vote shares of a bank or bank holding company and all of the banks and nonbanking companies owned by the bank holding company, including the companies listed below.

The applications listed below, as well as other related filings required by the Board, are available for immediate inspection at the Federal Reserve Bank indicated. The application also will be available for inspection at the offices of the Board of Governors. Interested persons may express their views in writing on the standards enumerated in the BHC Act (12 U.S.C. 1842(c)). If the proposal also involves the acquisition of a nonbanking company, the review also includes whether the acquisition of the nonbanking company complies with the standards in section 4 of the BHC Act (12 U.S.C. 1843). Unless otherwise noted, nonbanking activities will be conducted throughout the United States. Additional information on all bank holding companies may be obtained from the National Information Center website at www.ffiec.gov/nic/.

Unless otherwise noted, comments regarding each of these applications must be received at the Reserve Bank indicated or the offices of the Board of Governors not later than October 9, 2007.

A. Federal Reserve Bank of Atlanta (David Tatum, Vice President) 1000 Peachtree Street, N.E., Atlanta, Georgia 30309:

1. Smith Associates Florida Banking Fund LLC; Smith Associates Bank Fund Management LLC, and Florida Shores Bancorp, Inc., all of Pompano Beach, Florida; to acquire 60 percent of the voting shares of Florida Shores Bank - Southwest, Venice, Florida (in organization).

B. Federal Reserve Bank of Kansas City (Todd Offenbacker, Assistant Vice President) 925 Grand Avenue, Kansas City, Missouri 64198-0001:

1. Century Financial Services Corporation, to become a bank holding company by acquiring 100 percent of the voting shares of Century Bank, upon its conversion from a federal savings bank, Century Bank, FSB, all of Santa Fe, New Mexico, to a commercial bank.

2. Equity Bancshares, Inc., Andover, Kansas, to acquire up to 100 percent of the voting shares of Signature Bancshares, Inc., Spring Hill, Kansas, and thereby indirectly acquire voting shares of Signature Bank KC, Haddam, Kansas.

In connection with this application, Equity Bancshares, Inc., also has applied to acquire Citizens Agency, Inc., Haddam, Kansas, and thereby engage in general insurance activities in a town of less than 5,000, pursuant to section 225.28(b)(11)(iii)(A) of Regulation Y.

C. Federal Reserve Bank of Dallas (W. Arthur Tribble, Vice President) 2200 North Pearl Street, Dallas, Texas 75201-2272:

1. JLL Associates G. P. FCH, L.L.C.; JLL Associates FCH, L.P.; JLL Partners Fund FCH, L.P.; and JLL/FCH Holdings I, LLC, all of New York, New York; to become bank holding companies by acquiring 54.7 percent of the voting shares of FC Holdings, Inc., Houston, Texas, and thereby indirectly acquiring FC Holdings of Delaware, Inc., Wilmington, Delaware; First Community Bank, The Woodlands, N.A., Tomball, Texas; First Community Bank Central Texas, N.A., Meridian, Texas; First Community Bank, Fort Bend, N.A., Sugar Land, Texas; and First Community Bank San Antonio, N.A., San Antonio, Texas.

Board of Governors of the Federal Reserve System, September 10, 2007.
Robert deV. Frierson,
Deputy Secretary of the Board.

[FR Doc. E7-18044 Filed 9-12-07; 8:45 am]

BILLING CODE 6210-01-S